FEDERAL ACCOUNTING STANDARDS ADVISORY BOARD

Notice of December 1, 2020, Federal Accounting Standards Advisory Board Meeting

AGENCY: Federal Accounting Standards Advisory Board.

ACTION: Notice.

Pursuant to 31 U.S.C. 3511(d), the Federal Advisory Committee Act, as amended (5 U.S.C. App.), and the FASAB Rules Of Procedure, as amended in October 2010, notice is hereby given that the Federal Accounting Standards Advisory Board (FASAB) will hold a meeting on December 1, 2020. The purpose of the meeting is to discuss issues related to the accounting and reporting of government land.

The meeting will begin at 2 p.m. and conclude before 5 p.m. The meeting will be virtual, and observers can listen to the meeting via a teleconference line. The teleconference line is 1-877-446-3914. Please enter the following listen only passcode 7381305#. For any questions concerning the meeting or during the meeting please send an email to fasab@fasab.gov. The agenda and briefing materials will be available at https://www.fasab.gov/briefing-materials/approximately one week before the meeting.

FOR FURTHER INFORMATION CONTACT: Ms. Monica R. Valentine, Executive Director, 441 G Street NW, Suite 1155, Washington, DC 20548, or call (202) 512-7350.

Authority: Federal Advisory Committee Act (5 U.S.C. App.).

Dated: November 10, 2020.
Monica R. Valentine,
Executive Director.

[FR Doc. 2020-26725 Filed 12-3-20; 8:45 am]

BILLING CODE 1610-02-P